DEPARTMENT OF COMMERCE

International Trade Administration

[A-351-825]

Stainless Steel Bar From Brazil: Extension of Time Limit for Preliminary Results of Antidumping Duty Administrative Review

AGENCY: Import Administration, International Trade Administration, Department of Commerce.

FOR FURTHER INFORMATION CONTACT: Catherine Cartsos, AD/CVD Operations, Office 5, Import Administration, International Trade Administration, U.S. Department of Commerce, 14th Street and Constitution Avenue, NW., Washington, DC 20230; telephone: (202) 482-1757.

SUPPLEMENTARY INFORMATION:

Background

At the request of interested parties, the Department of Commerce (the Department) initiated an administrative review of the antidumping duty order on certain stainless steel bar from Brazil for the period February 1, 2008, through January 31, 2009. See Initiation of Antidumping and Countervailing Duty Administrative Reviews and Requests for Revocation in Part, 74 FR 12310 (March 24, 2009). The preliminary results of this administrative review are currently due no later than October 31, 2009.

Extension of Time Limit for Preliminary Results

Section 751(a)(3)(A) of the Tariff Act of 1930, as amended (the Act), requires the Department to make a preliminary determination within 245 days after the last day of the anniversary month of an order for which a review is requested and a final determination within 120 days after the date on which the preliminary determination is published. If it is not practicable to complete the review within these time periods, section 751(a)(3)(A) of the Act allows the Department to extend the time limit for the preliminary determination to a maximum of 365 days after the last day of the anniversary month of the order. See also 19 CFR 351.213(h).

We determine that it is not practicable to complete the preliminary results of this review by the current deadline of October 31, 2009, for several reasons. Specifically, the Department has granted the respondent, Villares Metals S.A. (Villares), several extensions to respond to the original and supplemental questionnaires. Thus, the Department needs additional time to review and analyze the responses submitted by Villares. Further, the Department requires additional time to review issues such as corporate affiliations and steel grades of products reported by Villares as it will affect the Department's matching methodology in this case. Finally, the petitioners submitted a cost allegation on September 9, 2009. We require additional time to examine the cost allegation and consider whether to initiate and conduct a cost investigation. Therefore, we are extending the time period for issuing the preliminary results of this review by 90 days until January 29, 2010.

This notice is published in accordance with sections 751(a)(3)(A) and 777(i)(1) of the Act and 19 CFR 351.213(h)(2).

Dated: October 23, 2009.
John M. Andersen,
Acting Deputy Assistant Secretary for Antidumping and Countervailing Duty Operations.

[FR Doc. E9-26105 Filed 10-28-09; 8:45 am]

BILLING CODE 3510-DS-P